DEPARTMENT OF COMMERCE

International Trade Administration

Antidumping or Countervailing Duty Order, Finding, or Suspended Investigation; Opportunity To Request Administrative Review

AGENCY: Import Administration, International Trade Administration, Department of Commerce.

ACTION: Notice of opportunity to request administrative review of antidumping or countervailing duty order, finding, or suspended investigation.

Background

Each year during the anniversary month of the publication of an antidumping or countervailing duty order, finding, or suspension of investigation, an interested party, as defined in section 771(9) of the Tariff Act of 1930, as amended (the Act), may request, in accordance with section 351.213 (2004) of the Department of Commerce (the Department) Regulations, that the Department conduct an administrative review of that antidumping or countervailing duty order, finding, or suspended investigation.

Opportunity To Request a Review: Not later than the last day of February 2005, interested parties may request administrative review of the following orders, findings, or suspended investigations, with anniversary dates in February for the following periods:

Antidumping duty proceedings | Period
Brazil: Stainless Steel Bar, A-351-825 | 2/1/04-1/31/05
France:
Certain Cut-to-Length Carbon-Quality Steel Plate, A-427-816 | 2/1/04-1/31/05
Uranium, A-427-818 | 2/1/04-1/31/05
Germany: Sodium Thiosulfate, A-428-807 | 2/1/04-1/31/05
India:
Certain Cut-to-Length Carbon-Quality Steel Plate, A-533-817 | 2/1/04-1/31/05
Forged Stainless Steel Flanges, A-533-809 | 2/1/04-1/31/05
Stainless Steel Bar, A-533-810 | 2/1/04-1/31/05
Certain Preserved Mushrooms, A-533-813 | 2/1/04-1/31/05
Indonesia:
Certain Cut-to-Length Carbon-Quality Steel Plate, A-560-805 | 2/1/04-1/31/05
Certain Preserved Mushrooms, A-560-802 | 2/1/04-1/31/05
Italy:
Certain Cut-to-Length Carbon-Quality Steel Plate, A-475-826 | 2/1/04-1/31/05
Stainless Steel Butt-Weld Pipe Fittings, A-475-828 | 2/1/04-1/31/05
Japan:
Carbon Steel Butt-Weld Pipe Fittings, A-588-602 | 2/1/04-1/31/05
Certain Cut-to-Length Carbon-Quality Steel Plate, A-588-847 | 2/1/04-1/31/05
Mechanical Transfer Presses, A-588-810 | 2/1/04-1/31/05
Melamine In Crystal Form, A-588-056 | 2/1/04-8/31/04
Stainless Steel Bar, A-588-833 | 2/1/04-1/31/05
Malaysia: Stainless Steel Butt-Weld Pipe Fittings, A-557-809 | 2/1/04-1/31/05
Mexico: Welded Large Diameter Line Pipe, A-201-828 | 2/1/04-1/31/05
Philippines: Stainless Steel Butt-Weld Pipe Fittings, A-565-801 | 2/1/04-1/31/05
Republic of Korea:
Certain Cut-to-Length Carbon-Quality Steel Plate, A-580-836 | 2/1/04-1/31/05
Stainless Steel Butt-Weld Pipe Fittings, A-580-813 | 2/1/04-1/31/05
Taiwan: Forged Stainless Steel Flanges, A-583-821 | 2/1/04-1/31/05
The People's Republic of China:
Axes/adzes, A-570-803 | 2/1/04-1/31/05
Bars/wedges, A-570-803 | 2/1/04-1/31/05
Certain Preserved Mushrooms, A-570-851 | 2/1/04-1/31/05
Coumarin, A-570-830 | 2/1/04-1/31/05
Creatine Monohydrate, A-570-852 | 2/1/04-1/31/05
Hammers/sledges, A-570-803 | 2/1/04-1/31/05
Natural Bristle Paint Brushes and Brush Heads, A-570-501 | 2/1/04-1/31/05
Picks/mattocks, A-570-803 | 2/1/04-1/31/05
Sodium Thiosulfate, A-570-805 | 2/1/04-1/31/05
The United Kingdom: Sodium Thiosulfate, A-412-805 | 2/1/04-1/31/05
Countervailing Duty Proceedings
France:
Certain Cut-to Length Carbon-Quality Steel Plate, C-427-817 | 1/1/04-12/31/04
Low Enriched Uranium, C-427-819 | 1/1/04-12/31/04
Germany: Low Enriched Uranium, C-428-829 | 1/1/04-12/31/04
India:
Certain Cut-to-Length Carbon-Quality Steel Plate, C-533-818 | 1/1/04-12/31/04
Prestressed Concrete Steel Wire Strand, C-533-829 | 7/8/03-12/31/04
Indonesia: Certain Cut-to-Length Carbon-Quality Steel Plate, C-560-806 | 1/1/04-12/31/04
Italy: Certain Cut-to-Length Carbon-Quality Steel Plate, C-475-827 | 1/1/04-12/31/04
Netherlands: Low Enriched Uranium, C-421-809 | 1/1/04-12/31/04
Republic of Korea: Certain Cut-to-Length Carbon-Quality Steel Plate, C-580-837 | 1/1/04-12/31/04
The United Kingdom: Low Enriched Uranium, C-412-821 | 1/1/04-12/31/04

Suspension Agreements

None.

In accordance with section 351.213(b) of the regulations, an interested party as defined by section 771(9) of the Act, may request in writing that the Secretary conduct an administrative review. For both antidumping and countervailing duty reviews, the interested party must specify the individual producers or exporters covered by an antidumping finding or an antidumping or countervailing duty order or suspension agreement for which it is requesting a review, and the requesting party must state why it desires the Secretary to review those particular producers or exporters. If the interested party intends for the Secretary to review sales of merchandise by an exporter (or a producer if that producer also exports merchandise from other suppliers) which were produced in more than one country of origin and each country of origin is subject to a separate order, then the interested party must state specifically, on an order-by-order basis, which exporter(s) the request is intended to cover.

As explained in Antidumping and Countervailing Duty Proceedings: Assessment of Antidumping Duties, 69 FR 23954 (May 6, 2003), the Department has clarified its practice with respect to the collection of final antidumping duties on imports of merchandise where intermediate firms are involved. The public should be aware of this clarification in determining whether to request an administrative review of merchandise subject to antidumping findings and orders. See also the Import Administration Web site at http://www.ia.ita.doc.gov.

Six copies of the request should be submitted to the Assistant Secretary for Import Administration, International Trade Administration, Room 1870, U.S. Department of Commerce, 14th Street & Constitution Avenue, NW., Washington, DC 20230. The Department also asks parties to serve a copy of their requests to the Office of Antidumping/ Countervailing Enforcement, Attention: Sheila Forbes, in room 3065 of the main Commerce Building. Further, in accordance with section 351.303(f)(l)(i) of the regulations, a copy of each request must be served on every party on the Department's service list.

The Department will publish in the Federal Register a notice of “Initiation of Administrative Review of Antidumping or Countervailing Duty Order, Finding, or Suspended Investigation” for requests received by the last day of February 2005. If the Department does not receive, by the last day of February 2005, a request for review of entries covered by an order, finding, or suspended investigation listed in this notice and for the period identified above, the Department will instruct the Customs Service to assess antidumping or countervailing duties on those entries at a rate equal to the cash deposit of (or bond for) estimated antidumping or countervailing duties required on those entries at the time of entry, or withdrawal from use, for consumption and to continue to collect the cash deposit previously ordered.

This notice is not required by statute but is published as a service to the international trading community.

Dated: January 26, 2005.
Holly A. Kuga,
Senior Office Director, Office for Import Administration.

[FR Doc. E5-375 Filed 1-31-05; 8:45 am]

BILLING CODE 3510-P